DEPARTMENT OF HOMELAND SECURITY

U.S. Customs and Border Protection

Automated Commercial Environment (ACE) Export Manifest for Vessel Cargo Test; Correction

AGENCY: U.S. Customs and Border Protection, DHS.

ACTION: General notice; correction.

SUMMARY: U.S. Customs and Border Protection (CBP) published in the Federal Register on August 20, 2015, a document announcing plans to conduct the Automated Commercial Environment (ACE) Export Manifest for Vessel Cargo Test, a National Customs Automation Program (NCAP) test concerning ACE export manifest capability. The notice misstated the technical capability requirements for submitting data to CBP. This document corrects this error.

FOR FURTHER INFORMATION CONTACT: Vincent C. Huang, Cargo and Conveyance Security, Office of Field Operations, U.S. Customs & Border Protection, via email at cbpvesselexportmanifest@cbp.dhs.gov.

SUPPLEMENTARY INFORMATION:

Background

U.S. Customs and Border Protection (CBP) published in the Federal Register on August 20, 2015 (80 FR 50644), a notice announcing plans to conduct the Automated Commercial Environment (ACE) Export Manifest for Vessel Cargo Test, a National Customs Automation Program (NCAP) test concerning ACE export manifest capability. The notice misstated the technical capability requirements for submitting data to CBP. The correct requirements are set forth below.

The August 20, 2015 notice stated that prospective ACE Export Manifest for Vessel Cargo Test participants must have the technical capability to electronically submit data to CBP and receive response message sets via Cargo-IMP, AIR CAMIR, XML, or Unified XML, and must successfully complete certification testing with their client representative. However, the correct acceptable message sets are Ocean CAMIR, ANSI X12, or Unified XML. Prospective ACE Export Manifest for Vessel Cargo Test participants must have the technical capability to electronically submit data to CBP and receive response message sets via Ocean CAMIR, ANSI X12, or Unified XML, and must successfully complete certification testing with their client representative.

Correction

In notice document FR Doc. 2015-20614 published on August 20, 2015 (80 FR 50644), make the following correction on page 50647, third column, second full paragraph, third sentence in the “Eligibility Requirements” section:

Remove “Cargo-IMP, AIR CAMIR, XML, or Unified XML,” and add in its place, “Ocean CAMIR, ANSI X12, or Unified XML,”. The revised sentence reads as follows: “Prospective ACE Export Manifest for Vessel Cargo Test participants must have the technical capability to electronically submit data to CBP and receive response message sets via Ocean CAMIR, ANSI X12, or Unified XML, and must successfully complete certification testing with their client representative.”

Dated: October 14, 2015.
Joanne Roman Stump,
Acting Director, Regulations and Disclosure Law Division, U.S. Customs and Border Protection.

[FR Doc. 2015-26538 Filed 10-19-15; 8:45 am]

BILLING CODE 9111-14-P